DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announce the following meeting:

Name: National Center for Injury Prevention and Control (NCIPC) Initial Review Group (IRG).

Times and Dates:

1 p.m.-5:30 p.m., May 23, 2005;

8:30 a.m.-5:30 p.m., May 24, 2005;

8:30 a.m.-5:30 p.m., May 25, 2005.

Place: The Initial Review Group will originate at the Hilton Atlanta Airport and Towers, 1031 Virginia Avenue, Atlanta, Georgia 30354.

Status:

Open: 1 p.m.-1:30 p.m., May 23, 2005.

Closed: 1:30 p.m.-5:30 p.m., May 23, 2005;

Closed: 8:30 a.m.-5:30 p.m., May 24, 2005;

Closed: 8:30 a.m.-5:30 p.m., May 25, 2005.

Purpose: This group is charged with providing advice and guidance to the Secretary of Health and Human Services and the Director, CDC, concerning the scientific and technical merit of grant and cooperative agreement applications received from academic institutions and other public and private profit and nonprofit organizations, including State and local government agencies, to conduct specific injury research that focuses on prevention and control and supports Injury Control Research Centers (ICRCs).

Matters To Be Discussed: Agenda items include an overview of the injury program, discussion of the review process and panelists' responsibilities, and the review of and vote on applications. Beginning at 1:30 p.m., May 23, through 5:30 p.m., May 25, the Group will review individual research cooperative agreement in response to announcement: #05018, Cooperative Agreement Program for the National Academic Centers of Excellence. This meeting will be closed to the public in accordance with provisions set forth in section 552b(c)(4) and (6), Title 5 U.S.C., and the Determination of the Director, Management Analysis and Services Office, CDC, pursuant to Pub. L. 92-463.

Agenda items are subject to change as priorities dictate.

For More Information Contact: Gwendolyn H. Cattledge, Ph.D., M.S.E.H., Executive Secretary, NCIPC IRG, CDC, 4770 Buford Highway, NE., M/S K02, Atlanta, Georgia 30341-3724, telephone (770) 488-4655.

The Director, Management Analysis and Services Office has been delegated the authority to sign Federal Register notices pertaining to announcements of meetings and other committee management activities for both CDC and the Agency for Toxic Substances and Disease Registry.

Dated: April 21, 2005.
B. Kathy Skipper,
Acting Director, Management Analysis and Services Office, Centers for Disease Control and Prevention.

[FR Doc. 05-8500 Filed 4-27-05; 8:45 am]

BILLING CODE 4163-18-P